DEPARTMENT OF COMMERCE

International Trade Administration

Application for Duty-Free Entry of Scientific Instrument

Pursuant to section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 04-014. Applicant: University of California, Santa Cruz. Instrument: Transmission Electron Microscope, Model JEM-1230. Manufacturer: JEOL, Japan. Intended Use: The instrument is intended to be used to image and study protein and Pre-mRNA macromolecular complexes purified from cellular extracts and cryo-preserved in vitreous ice to determine the 3-D architecture of the macromolecular complexes in order to understand the relationship between their structure and biochemical function. Application accepted by Commissioner of Customs: June 18, 2004.

Gerald A. Zerdy,
Program Manager, Statutory Import Programs Staff.

[FR Doc. 04-16742 Filed 7-21-04; 8:45 am]

BILLING CODE 3510-DS-P